DEPARTMENT OF AGRICULTURE

Farm Service Agency

List of Warehouses and Availability of List of Cancellations and/or Terminations

AGENCY: Farm Service Agency, USDA.

ACTION: Notice of publication.

SUMMARY: Notice is hereby given that the Farm Service Agency has published a list of warehouses licensed under the United States Warehouse Act (7 U.S.C. 241 et seq.) as of December 31, 1999, as required by section 26 of that Act (7 U.S.C. 266). A list of cancellations or terminations that occurred during calendar year 1999 is also available. Interested persons may obtain a copy of either list from the person listed below.

FOR FURTHER INFORMATION CONTACT: Judy Fry, Farm Service Agency, Warehouse and Inventory Division, U.S. Department of Agriculture, STOP 0553, 1400 Independence Avenue, SW., Washington, DC 20250-0553, telephone 202-720-3822, or e-mail requests may be sent: Judy_Fry@wdc.fsa.usda.gov.

Signed at Washington, D.C., on April 10, 2000.
Keith Kelly,
Administrator, Farm Service Agency.

[FR Doc. 00-9450 Filed 4-14-00; 8:45 am]

BILLING CODE 3410-05-P